NATIONAL FOUNDATION ON THE ARTS AND THE HUMANITIES

Meetings of Humanities Panel

AGENCY: National Endowment for the Humanities.

ACTION: Notice of meetings.

SUMMARY: The National Endowment for the Humanities will hold thirty meetings of the Humanities Panel, a federal advisory committee, during July, 2015. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See SUPPLEMENTARY INFORMATION for meeting room numbers.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. Date: July 14, 2015

Time: 8:30 a.m. to 5:00 p.m.

Room: 4002.

This meeting will discuss applications for Challenge Grants, submitted to the Office of Challenge Grants.

2. Date: July 14, 2015.

Time: 8:30 a.m. to 5:00 p.m.

Room: P002.

This meeting will discuss applications on the subjects of Literature, Language, Philosophy, and the Arts for the Awards for Faculty grant program, submitted to the Division of Research Programs.

3. Date: July 14, 2015.

Time: 8:30 a.m. to 5:00 p.m.

Room: P003.

This meeting will discuss applications on the subjects of American History and Social Studies for the Awards for Faculty grant program, submitted to the Division of Research Programs.

4. Date: July 15, 2015.

Time: 8:30 a.m. to 5:00 p.m.

Room: 4002.

This meeting will discuss applications for Challenge Grants, submitted to the Office of Challenge Grants.

5. Date: July 15, 2015.

Time: 8:30 a.m. to 5:00 p.m.

Room: P002.

This meeting will discuss applications on the subjects of American Literature, Arts, and Media for the Awards for Faculty grant program, submitted to the Division of Research Programs.

6. Date: July 15, 2015.

Time: 8:30 a.m. to 5:00 p.m.

Room: P003.

This meeting will discuss applications on the subjects of History, Politics, and Area Studies for the Awards for Faculty grant program, submitted to the Division of Research Programs.

7. Date: July 16, 2015.

Time: 8:30 a.m. to 5:00 p.m.

Room: 4002.

This meeting will discuss applications for Challenge Grants, submitted to the Office of Challenge Grants.

8. Date: July 16, 2015.

Time: 8:30 a.m. to 5:00 p.m.

Room: P002.

This meeting will discuss applications on the subject of British Literature for Fellowships for University Teachers, submitted to the Division of Research Programs.

9. Date: July 16, 2015.

Time: 8:30 a.m. to 5:00 p.m.

Room: P003.

This meeting will discuss applications on the subject of British Literature for Fellowships for University Teachers, submitted to the Division of Research Programs.

10. Date: July 17, 2015.

Time: 8:30 a.m. to 5:00 p.m.

Room: P002.

This meeting will discuss applications on the subjects of Ancient and Classical Studies for Fellowships for University Teachers, submitted to the Division of Research Programs.

11. Date: July 17, 2015.

Time: 8:30 a.m. to 5:00 p.m.

Room: P003.

This meeting will discuss applications on the subject of American Studies for Fellowships for University Teachers, submitted to the Division of Research Programs.

12. Date: July 20, 2015.

Time: 8:30 a.m. to 5:00 p.m.

Room: P002.

This meeting will discuss applications for Fellowships for Advanced Research on Japan, submitted to the Division of Research Programs.

13. Date: July 21, 2015.

Time: 8:30 a.m. to 5:00 p.m.

Room: 4002.

This meeting will discuss applications for Challenge Grants, submitted to the Office of Challenge Grants.

14. Date: July 21, 2015.

Time: 8:30 a.m. to 5:00 p.m.

Room: P002.

This meeting will discuss applications on the subject of Philosophy for Fellowships for University Teachers, submitted to the Division of Research Programs.

15. Date: July 21, 2015.

Time: 8:30 a.m. to 5:00 p.m.

Room: P003.

This meeting will discuss applications on the subject of Philosophy for Fellowships for University Teachers, submitted to the Division of Research Programs.

16. Date: July 22, 2015.

Time: 8:30 a.m. to 5:00 p.m.

Room: 4089.

This meeting will discuss applications for Challenge Grants, submitted to the Office of Challenge Grants.

17. Date: July 22, 2015.

Time: 8:30 a.m. to 5:00 p.m.

Room: P002.

This meeting will discuss applications on the subjects of Communications, Media, Rhetoric and Language for Fellowships for University Teachers, submitted to the Division of Research Programs.

18. Date: July 22, 2015.

Time: 8:30 a.m. to 5:00 p.m.

Room: P003.

This meeting will discuss applications on the subjects of Cinema and Theater Studies for Fellowships for University Teachers, submitted to the Division of Research Programs.

19. Date: July 23, 2015.

Time: 8:30 a.m. to 5:00 p.m.

Room: 4002.

This meeting will discuss applications for Challenge Grants, submitted to the Office of Challenge Grants.

20. Date: July 23, 2015.

Time: 8:30 a.m. to 5:00 p.m.

Room: P002.

This meeting will discuss applications on the subjects of Comparative Literature and Literary Theory for Fellowships for University Teachers, submitted to the Division of Research Programs.

21. Date: July 23, 2015.

Time: 8:30 a.m. to 5:00 p.m.

Room: P003.

This meeting will discuss applications on the subjects of German and Slavic History, Literature and Studies for Fellowships for University Teachers, submitted to the Division of Research Programs.

22. Date: July 27, 2015.

Time: 8:30 a.m. to 5:00 p.m.

Room: P002.

This meeting will discuss applications on the subject of American Literature for Fellowships for University Teachers, submitted to the Division of Research Programs.

23. Date: July 27, 2015.

Time: 8:30 a.m. to 5:00 p.m.

Room: P003.

This meeting will discuss applications on the subjects of Music and Dance for Fellowships for University Teachers, submitted to the Division of Research Programs.

24. Date: July 28, 2015.

Time: 8:30 a.m. to 5:00 p.m.

Room: P002.

This meeting will discuss applications on the subjects of Political Science and Jurisprudence for Fellowships for University Teachers, submitted to the Division of Research Programs.

25. Date: July 29, 2015.

Time: 8:30 a.m. to 5:00 p.m.

Room: P002.

This meeting will discuss applications on the subject of American History for Fellowships for University Teachers, submitted to the Division of Research Programs.

26. Date: July 29, 2015.

Time: 8:30 a.m. to 5:00 p.m.

Room: P003.

This meeting will discuss applications on the subject of American History for Fellowships for University Teachers, submitted to the Division of Research Programs.

27. Date: July 30, 2015.

Time: 8:30 a.m. to 5:00 p.m.

Room: P002.

This meeting will discuss applications on the subject of Religious Studies for Fellowships for University Teachers, submitted to the Division of Research Programs.

28. Date: July 30, 2015.

Time: 8:30 a.m. to 5:00 p.m.

Room: P003.

This meeting will discuss applications on the subjects of American History and Studies for Fellowships for University Teachers, submitted to the Division of Research Programs

29. Date: July 31, 2015.

Time: 8:30 a.m. to 5:00 p.m.

Room: P002.

This meeting will discuss applications on the subject of Art History for Fellowships for University Teachers, submitted to the Division of Research Programs.

30. Date: July 31, 2015.

Time: 8:30 a.m. to 5:00 p.m.

Room: P003.

This meeting will discuss applications on the subject of Art History for Fellowships for University Teachers, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: June 11, 2015.
Lisette Voyatzis,
Committee Management Officer.

[FR Doc. 2015-14963 Filed 6-16-15; 8:45 am]

BILLING CODE 7536-01-P